DEPARTMENT OF ENERGY

Federal Energy Regulatory Commission

Combined Notice of Filings #1

June 29, 2009.

Take notice that the Commission received the following electric rate filings:

Docket Numbers: ER97-3923-003.

Applicants: Infinite Energy, Inc.

Description: Order No 697 Compliance filing and request for Category I, Status of Infinite Energy, Inc.

Filed Date: 06/26/2009.

Accession Number: 20090629-0108.

Comment Date: 5 p.m. Eastern Time on Friday, July 17, 2009.

Docket Numbers: ER00-586-008.

Applicants: Madison Gas and Electric Company.

Description: Madison Gas and Electric Company submits for filing its triennial market power update in support of its continued authority to sell electric capacity, energy and ancillary services etc.

Filed Date: 06/25/2009.

Accession Number: 20090626-0093.

Comment Date: 5 p.m. Eastern Time on Monday, August 24, 2009.

Docket Numbers: ER00-3251-020; ER99-754-019.

Applicants: Exelon Generation Company, LLC, AmerGen Energy Company, LLC.

Description: Exelon Generation Co, LLC et al. submits an updated market power analysis.

Filed Date: 06/26/2009.

Accession Number: 20090629-0048.

Comment Date: 5 p.m. Eastern Time on Friday, July 17, 2009.

Docket Numbers: ER03-720-013; ER94-389-033.

Applicants: New Covert Generating Company, LLC, Tenaska Power Services Co.

Description: Updated Market Power Analysis of Tenaska Power Services Co., et al.

Filed Date: 06/26/2009.

Accession Number: 20090626-5136.

Comment Date: 5 p.m. Eastern Time on Tuesday, August 25, 2009.

Docket Numbers: ER03-762-013; ER09-533-002.

Applicants: Alliant Energy Corporate Services, Inc.; Alliant Energy Neenah, LLC.

Description: Notice of change in status regarding market-based rates authority of Alliant Energy Corporate Services, Inc.

Filed Date: 06/29/2009.

Accession Number: 20090629-5077.

Comment Date: 5 p.m. Eastern Time on Monday, July 20, 2009.

Docket Numbers: ER04-944-007; ER00-2129-003; ER99-1801-012.

Applicants: Orion Power Midwest, L.P., RRI Energy Wholesale Generation, LLC, RRI Energy Solutions East, LLC.

Description: Triennial Report of RRI Central MBR Entities.

Filed Date: 06/26/2009.

Accession Number: 20090626-5193.

Comment Date: 5 p.m. Eastern Time on Tuesday, August 25, 2009.

Docket Numbers: ER06-882-002.

Applicants: Bayside Power L.P.

Description: Bayside Power, LP submits its Order 697 Compliance Filing and Application for Category 1 status.

Filed Date: 06/24/2009.

Accession Number: 20090625-0104.

Comment Date: 5 p.m. Eastern Time on Wednesday, July 15, 2009.

Docket Numbers: ER08-1252-003.

Applicants: Midwest Independent Transmission System Operator, Inc.

Description: Midwest Independent Transmission System Operator, Inc submits Superseding Original Sheet 530.83 et al. to FERC Electric Tariff, Third Revised Volume 1.

Filed Date: 06/26/2009.

Accession Number: 20090629-0109.

Comment Date: 5 p.m. Eastern Time on Friday, July 17, 2009.

Docket Numbers: ER09-629-002; ER00-1895-013; ER01-3109-013; ER99-4160-018.

Applicants: Dynegy Midwest Generation, Inc., Dynegy Power Marketing, Inc., Dynegy Marketing and Trade, LLC, Renaissance Power, LLC.

Description: Updated Market Power Analysis of Dynegy Marketing and Trade, LLC, et al.

Filed Date: 06/26/2009.

Accession Number: 20090626-5205.

Comment Date: 5 p.m. Eastern Time on Tuesday, August 25, 2009.

Docket Numbers: ER09-910-001; OA09-25-001; TS09-3-001.

Applicants: Cogen Technologies Linden Venture, LLP.

Description: Cogen Technologies Linden Venture, LLP submits Substitute Original Sheet 8 et al. Rate Schedule FERC No 1.

Filed Date: 06/25/2009.

Accession Number: 20090626-0096.

Comment Date: 5 p.m. Eastern Time on Thursday, July 16, 2009.

Docket Numbers: ER09-1019-001.

Applicants: Arizona Public Service Company.

Description: Arizona Public Service Company submits Service Agreement 300 to FERC Electric Tariff, Fourteenth Revised Volume 2.

Filed Date: 06/25/2009.

Accession Number: 20090626-0097.

Comment Date: 5 p.m. Eastern Time on Thursday, July 16, 2009.

Docket Numbers: ER09-1102-001.

Applicants: Midwest Independent Transmission System.

Description: Midwest Independent Transmission System Operator, Inc. submits Substitute First Revised Service Agreement 1355 et al. to FERC Electric Tariff, Fourth Revised Volume 1.

Filed Date: 06/26/2009.

Accession Number: 20090626-0109.

Comment Date: 5 p.m. Eastern Time on Friday, July 17, 2009.

Docket Numbers: ER09-1202-000.

Applicants: Southwest Power Pool, Inc.

Description: Southwest Power Pool, Inc submits an executed Large Generator Interconnection Agreement etc.

Filed Date: 05/27/2009.

Accession Number: 20090528-0155.

Comment Date: 5 p.m. Eastern Time on Monday, July 06, 2009.

Docket Numbers: ER09-1207-002.

Applicants: P.H. Glatfelter Company.

Description: PH Glatfelter Company submits Second Substitute Original Sheet 1 et al. to FERC Electric Tariff, Original Volume 1 to be effective 7/29/09.

Filed Date: 06/25/2009.

Accession Number: 20090626-0092.

Comment Date: 5 p.m. Eastern Time on Thursday, July 16, 2009.

Docket Numbers: ER09-1286-001.

Applicants: Elizabethtown Energy, LLC.

Description: Elizabethtown Energy, LLC submits First Revised Sheet 1 et al. to FERC Electric Tariff, Original Volume 1.

Filed Date: 06/25/2009.

Accession Number: 20090626-0094.

Comment Date: 5 p.m. Eastern Time on Thursday, July 16, 2009.

Docket Numbers: ER09-1287-001.

Applicants: Lumberton Energy, LLC.

Description: Lumberton Energy, LLC submits First Revised Sheet 1 et al. to FERC Electric Tariff, Original Volume 1.

Filed Date: 06/25/2009.

Accession Number: 20090626-0095.

Comment Date: 5 p.m. Eastern Time on Thursday, July 16, 2009.

Docket Numbers: ER09-1339-001.

Applicants: Grand Ridge Energy II LLC.

Description: Grand Ridge Energy II LLC submits Substitute Original Sheet 3 et al. to FERC Electric Tariff, Original Volume 1 to be effective 8/25/09.

Filed Date: 06/26/2009.

Accession Number: 20090629-0104.

Comment Date: 5 p.m. Eastern Time on Friday, July 17, 2009.

Docket Numbers: ER09-1340-001.

Applicants: Grand Ridge Energy III LLC.

Description: Grand Ridge Energy III, LLC submits Substitute Original Sheet 3 et al. to FERC Electric Tariff, Original Volume 1, to be effective 8/25/09.

Filed Date: 06/26/2009.

Accession Number: 20090629-0105.

Comment Date: 5 p.m. Eastern Time on Friday, July 17, 2009.

Docket Numbers: ER09-1341-001.

Applicants: Grand Ridge Energy IV LLC.

Description: Grand Ridge Energy IV, LLC submits Substitute Original Sheet 3 et al. to FERC Electric Tariff, Original Volume 1 to be effective 8/25/09.

Filed Date: 06/26/2009.

Accession Number: 20090629-0106.

Comment Date: 5 p.m. Eastern Time on Friday, July 17, 2009.

Docket Numbers: ER09-1342-001.

Applicants: Grand Ridge Energy V LLC.

Description: Grand Ridge Energy V, LLC submits Substitute Original Sheet 3 et al. to FERC Electric Tariff, Original Volume 1 to be effective 8/25/09.

Filed Date: 06/26/2009.

Accession Number: 20090629-0107.

Comment Date: 5 p.m. Eastern Time on Friday, July 17, 2009.

Docket Numbers: ER09-1348-000.

Applicants: Puget Sound Energy, Inc.

Description: Puget Sound Energy, Inc submits an unexecuted Standard Large Generator Interconnection Agreement, dated 6/24/09 between PSE, as Transmission Provider, and Vanatage Wind Energy LLC as Interconnection Customer.

Filed Date: 06/24/2009.

Accession Number: 20090624-0044.

Comment Date: 5 p.m. Eastern Time on Wednesday, July 15, 2009.

Docket Numbers: ER09-1349-000.

Applicants: WestConnect.

Description: WestConnect submits section 205 filing to clarify timeframes for reserving and scheduling regional transmission service etc.

Filed Date: 06/24/2009.

Accession Number: 20090625-0101.

Comment Date: 5 p.m. Eastern Time on Wednesday, July 15, 2009.

Docket Numbers: ER09-1350-000.

Applicants: PJM Interconnection LLC.

Description: PJM Interconnection, LLC submits executed interim interconnection service agreement and an executed interconnection construction service agreement entered into among PJM, Monmouth Energy, Inc, et al.

Filed Date: 06/25/2009.

Accession Number: 20090625-0108.

Comment Date: 5 p.m. Eastern Time on Thursday, July 16, 2009.

Docket Numbers: ER09-1351-000.

Applicants: EPLP Energy Services (US) LLC.

Description: EPLP Energy Services, LLC submits Original Sheet 1 et al. to FERC Electric Tariff, Original Volume 1 to be effective 8/25/09.

Filed Date: 06/26/2009.

Accession Number: 20090629-0002.

Comment Date: 5 p.m. Eastern Time on Friday, July 17, 2009.

Docket Numbers: ER09-1352-000.

Applicants: Southwest Power Pool, Inc.

Description: Southwest Power Pool, Inc submits Second Revised Sheet 125 et al. to FERC Electric Tariff, Fifth Revised Volume 1.

Filed Date: 06/25/2009.

Accession Number: 20090626-0091.

Comment Date: 5 p.m. Eastern Time on Thursday, July 16, 2009.

Docket Numbers: ER09-1353-000.

Applicants: Virginia Electric and Power Company.

Description: Dominion Virginia Power submits a revised service agreement cover sheet that cancels Service Agreement 1314 in conformance with Order 614.

Filed Date: 06/25/2009.

Accession Number: 20090626-0090.

Comment Date: 5 p.m. Eastern Time on Thursday, July 16, 2009.

Docket Numbers: ER09-1354-000.

Applicants: PJM Interconnection LLC.

Description: PJM Interconnection, LLC submits an executed interconnection service agreement among PJM et al. and notices of cancellation for three ISAs being superseded.

Filed Date: 06/25/2009.

Accession Number: 20090626-0089.

Comment Date: 5 p.m. Eastern Time on Thursday, July 16, 2009.

Docket Numbers: ER09-1355-000.

Applicants: PJM Interconnection LLC.

Description: PJM Interconnection, LLC submits an executed interconnection service agreement among PJM et al. and notices of cancellation for three ISAs being superseded.

Filed Date: 06/25/2009.

Accession Number: 20090626-0088.

Comment Date: 5 p.m. Eastern Time on Thursday, July 16, 2009.

Docket Numbers: ER09-1356-000; OA09-30-000; TS09-6-000.

Applicants: Grand Ridge Energy LLC.

Description: Grand Ridge Energy, LLC et al. submits Original Sheet 1 to Rate Schedule FERC No 1.

Filed Date: 06/25/2009.

Accession Number: 20090626-0087.

Comment Date: 5 p.m. Eastern Time on Thursday, July 09, 2009.

Docket Numbers: ER09-1357-000.

Applicants: Altair Energy Trading, Inc.

Description: Altair Energy Trading, Inc submits petition for acceptance of initial tariff, waivers and blanket authority.

Filed Date: 06/26/2009.

Accession Number: 20090626-0112.

Comment Date: 5 p.m. Eastern Time on Friday, July 17, 2009.

Docket Numbers: ER09-1358-000.

Applicants: Duke Energy Ohio, Inc.

Description: Duke Energy Ohio, Inc submits First Revised Sheet 1 to First Revised Rate Schedule 48 to be effective 8/25/09.

Filed Date: 06/26/2009.

Accession Number: 20090629-0001.

Comment Date: 5 p.m. Eastern Time on Friday, July 17, 2009.

Docket Numbers: ER09-1359-000.

Applicants: PECO Energy Company.

Description: PECO Energy Company submits Original Service Agreement 2196 et al. to FERC Electric Tariff, Sixth Revised Volume 1 to be effective 7/27/09.

Filed Date: 06/26/2009.

Accession Number: 20090629-0003.

Comment Date: 5 p.m. Eastern Time on Friday, July 17, 2009.

Docket Numbers: ER09-1360-000.

Applicants: PECO Energy Company.

Description: PECO Energy Company submits notice of Cancellation of Rate Schedule FPC No 47, to be effective 7/26/09.

Filed Date: 06/26/2009.

Accession Number: 20090629-0004.

Comment Date: 5 p.m. Eastern Time on Friday, July 17, 2009.

Docket Numbers: ER09-1361-000.

Applicants: California Independent System Operator Corporation.

Description: California Independent System Operator Corp submits a Participating Load Pilot Agreement.

Filed Date: 06/26/2009.

Accession Number: 20090629-0110.

Comment Date: 5 p.m. Eastern Time on Friday, July 17, 2009.

Docket Numbers: ER09-1362-000.

Applicants: California Independent System Operator Corporation.

Description: The California Independent System Operator Corporation submits Service Agreement 1358 to FERC Electric Tariff, Fourth Replacement Volume 11 with San Diego Gas & Electric Company.

Filed Date: 06/26/2009.

Accession Number: 20090629-0111.

Comment Date: 5 p.m. Eastern Time on Friday, July 17, 2009.

Docket Numbers: ER09-1363-000.

Applicants: California Independent System Operator Corporation

Description: The California Independent System Operator Corporation submits Service Agreement 1357 to FERC Electric Tariff, Fourth Replacement Volume II.

Filed Date: 06/26/2009.

Accession Number: 20090629-0112.

Comment Date: 5 p.m. Eastern Time on Friday, July 17, 2009.

Take notice that the Commission received the following open access transmission tariff filings:

Docket Numbers: OA07-53-005.

Applicants: Progress Energy, Inc.

Description: Revised Annual Penalty Revenues Refund Report of Carolina Power & Light Company and Florida Power Corporation.

Filed Date: 06/25/2009.

Accession Number: 20090625-5184.

Comment Date: 5 p.m. Eastern Time on Thursday, July 16, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-15938 Filed 7-6-09; 8:45 am]

BILLING CODE 6717-01-P